GENERAL SERVICES ADMINISTRATION

41 CFR Parts 302-3 and 302-9

[FTR Amendment 2011-06; FTR Case 2011-307; Docket Number 2011-0025, sequence 1]

RIN 3090-AJ18

Federal Travel Regulation (FTR); Storage of a Privately Owned Vehicle When Assigned a Temporary Change of Station in Support of a Contingency Operation

AGENCY: Office of Governmentwide Policy, General Services Administration (GSA).

ACTION: Final rule.

SUMMARY: This final rule amends the Federal Travel Regulation (FTR), and allows agencies to establish internal policy and procedures for storage of a privately owned vehicle (POV) when an employee is assigned a temporary change of station (TCS) in support of a contingency operation.

DATES: Effective date: This final rule is effective December 21, 2011.

FOR FURTHER INFORMATION CONTACT: For clarification of content, contact Rick Miller, Office of Governmentwide Policy, Travel Management Policy, at (202) 501-3822 or email at rodney.miller@gsa.gov. The Regulatory Secretariat (MVCB), 1275 First Street NE., Washington, DC 20417, (202) 501-4755, for information pertaining to status or publication schedules. Please cite FTR Amendment 2011-06 FTR case 2011-307.

SUPPLEMENTARY INFORMATION:

A. Background

Pursuant to 5 U.S.C. 5738 the Administrator of General Services is authorized to prescribe necessary regulations to implement laws regarding Federal employees when assigned a TCS or when otherwise officially relocated. The overall implementing authority is the Federal Travel Regulation (FTR) (41 CFR chapters 300-304).

This final rule incorporates language based on Public Law 110-181, the National Defense Authorization Act for Fiscal Year 2008, section 1104, and 5 U.S.C. 5737a, to allow agencies to establish policies to provide for the storage, without charge, or for the reimbursement of the cost of storage, of a POV that is owned or leased by a covered employee of that agency (or by a dependent of such an employee), when the employee is assigned a TCS in support of a contingency operation. The term “contingency operation” has the meaning given such term in 10 U.S.C. 1482a(c)(2) to include humanitarian operations, peacekeeping operations, and similar operations.

This final rule also amends and clarifies other clerical issues pertaining to FTR Part 302-3, (Subpart B—Transferred Employees—Table H—Temporary Change of Station (TCS), and Subpart E—Employee's Temporary Change of Station) and Part 302-9 (Allowances for Transportation and Emergency Storage of a Privately Owned Vehicle).

B. Executive Order 12866 and 13563

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has not been designated a “significant regulatory action” and is not economically significant, under section 3(f) of Executive Order 12866.

C. Regulatory Flexibility Act

This final rule will not have a significant economic impact on a substantial number of small entities within the meaning of the Regulatory Flexibility Act, 5 U.S.C. 601, et seq., because the revisions are not considered substantive. This final rule is also exempt from the Regulatory Flexibility Act per 5 U.S.C. 553 (a)(2) because it applies to agency management or personnel. However, this final rule is being published to provide transparency in the promulgation of Federal policies.

D. Paperwork Reduction Act

The Paperwork Reduction Act does not apply because the changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates solely to agency management and personnel.

List of Subjects in 41 CFR Parts 302-3 and 302-9

Government employees, Relocation travel, and transportation expenses.

Dated: July 20, 2011.
Martha Johnson,
Administrator of General Services.

For the reasons set forth in the preamble, under 5 U.S.C. 5721-5738, 41 CFR parts 302-3 and 302-9 are amended to read as follows:

PART 302-3—RELOCATION ALLOWANCE BY SPECIFIC TYPE

1. The authority citation for 41 CFR part 302-3 continues to read as follows:

Authority: 5 U.S.C. 5738; 20 U.S.C. 905(a).

2. Amend § 302-3.101—

(a) By revising the section heading to read as set forth below;

(b) In Table H—

(i) By revising entries three and four;

(ii) In the first column, in the fifth entry, by removing “, subpart B”; and

(iii) By removing the seventh entry.

The revised text reads as follows:

§ 302-3.101 As a transferred employee what relocation allowances must my agency pay or reimburse to me?

* * * * *

Table H—Temporary Change of Station (TCS)
Column 1—Relocation | Column 2—Relocation
Allowances that agency must pay or reimburse | Allowances that agency has discretionary authority to pay or reimburse.
* * * * * * *
3. Transportation & temporary or extended storage of household goods (parts 302-7 and 302-8 of this chapter) | 3. Storage of one privately owned vehicle (POV) when assigned in support of a contingency operation as defined in 10 U.S.C. 1482a (c)(2) (part 302-9 of this chapter).
4. Transportation of a mobile home or boat used as a primary residence in lieu of the transportation of household goods (part 302-10 of this chapter) | 4. Property management services (part 302-15 of this chapter).
* * * * * * *

* * * * *

3. Amend § 302-3.413 by—

(a) Removing the word “and” at the end of paragraph (b);

(b) Removing the period at the end of paragraph (c) and adding “; and” in its place; and

(c) Adding paragraph (d) to read as follows:

§ 302-3.413 Are there other expenses that my agency may pay?

* * * * *

(d) Reimbursement for the cost of storing, or providing for the storage without charge, of one POV when assigned a TCS in support of a contingency operation as defined in 10 U.S.C. 1482a(c)(2) and under part 302-9 of this chapter.

4. Amend § 302-3.418 by—

a. Revising the section heading; and

b. Removing from the first sentence “Yes, your agency will” and adding “Your agency may” in its place.

The revised section heading reads as follows:

§ 302-3.418 May my agency pay for property management services when I am authorized a TCS?

* * * * *

§ 302-3.419 [Amended]

5. Amend § 302-3.419, by removing “will” and adding “may” in its place in the section heading and text.

§ 302-3.420 [Amended]

6. Amend § 302-3.420, by removing the word “will” and adding the word “may” in its place in the section text and heading.

7. Amend § 302-3.421, by revising the section heading to read as follows:

§ 302-3.421 What are the income tax consequences if my agency pays for property management services?

* * * * *

8. Amend § 302-3.422 by—

(a) Adding in paragraph (b) “or extended” before the word “storage”, and removing “good under part 302-7” and adding “goods under parts 302-7 and 302-8” in its place;

(b) Removing paragraph (d);

(c) Redesignating paragraphs (e), (f), and (g), as paragraphs (d), (e), (f) respectively; and

(d) Adding a note at the end of the section to read as follows:

§ 302-3.422 What expenses will my agency pay when I complete my TCS?

* * * * *

Note to § 302-3.422:

Your agency may pay temporary quarters subsistence expenses under part 302-6 of this chapter.

§ 302-3.427 [Amended]

9. Amend § 302-3.427, paragraph (g), by removing “§ 302-9.6” and adding “§ 302-9.7” in its place.

10. Amend § 302-3.500 by—

(a) Removing the word “and” at the end of paragraph (g);

(b) Removing the period at the end of paragraph (h) and adding “; and” in its place; and

(c) Adding paragraph (i) to read as follows:

§ 302-3.500 What governing policies and procedures must we establish for paying a relocation allowance under this part 302-3?

* * * * *

(i) When you will pay for the cost of storing, or provide for the storage without charge, of one POV when an employee is assigned a TCS in support of a contingency operation as defined in 10 U.S.C. 1482a(c)(2) and under part 302-9 of this chapter.

PART 302-9—ALLOWANCES FOR TRANSPORTATION AND EMERGENCY OR TEMPORARY STORAGE OF A PRIVATELY OWNED VEHICLE

11. The authority citation for 41 CFR part 302-9 is revised to read as follows:

Authority: 5 U.S.C. 5737a; 5 U.S.C. 5738; 20 U.S.C. 905(a); E.O. 11609, as amended, 3 CFR, 1971-1975 Comp., p. 586.

12. Revise the heading to part 302-9 to read as set forth above.

§§ 302-9.5 through 302-9.12 [Redesignated as §§ 302-9.6 through 302-9.13]

13. Redesignate §§ 302-9.5 through 302-9.12 as §§ 302-9.6 through 302-9.13 respectively.

14. Add § 302-9.5 to read as follows:

§ 302-9.5 What expenses may I be allowed for storage of a POV when on a permanent or temporary assignment?

There is no authority for non-emergency storage of a POV when on a permanent or temporary assignment; however, an agency may approve storage for a POV when an employee is assigned a temporary change of station in support of a contingency operation as defined in 10 U.S.C. 1482a(c)(2).

15. Amend newly-designated § 302-9.6 by—

a. Revising the section heading;

b. Adding “or temporary” before the word “storage”; and

c. Removing the period at end of sentence and adding “, or when the employee is not authorized to have a POV at the TCS location under subpart F of this part.” in its place.

The revised section heading reads as follows:

§ 302-9.6 What is the purpose of the allowance for emergency or temporary storage of a POV?

* * * * *

16. Amend newly-designated § 302-9.7 by—

a. Revising the section heading;

b. Adding in the introductory text “or temporary” before the word “storage”; and

c. Adding paragraph (e).

The revised and added text reads as follows:

§ 302-9.7 What POV transportation and emergency or temporary storage may my agency authorize at Government expense?

* * * * *

(e) Storage of a POV during a TCS in support of a contingency operation.

17. Amend newly-designated § 302-9.8 by—

a. Revising the section heading;

b. Adding in the second sentence “or temporary” before the word “storage”; and

c. Removing the word “transferred” before the word “employee”.

The revised section heading reads as follows:

§ 302-9.8 Must my agency authorize transportation or emergency or temporary storage of my POV?

* * * * *

18. Amend newly-designated § 302-9.9 by—

a. Revising the section heading; and

b. Adding in the first sentence “or temporary” before the word “circumstances”.

The revised section heading reads as follows:

§ 302-9.9 What type of POV may I be authorized to transport, and if necessary, store under emergency or temporary circumstances?

* * * * *

19. Amend newly-designated § 302-9.11 by revising the section heading to read as follows:

§ 302-9.11 For what POV emergency or temporary storage expenses will my agency pay?

* * * * *

§ 302-9.12 [Amended]

20. Amend newly-designated § 302-9.12 by adding “or temporary” before the word “storage” in the section heading, and in the paragraph.

§ 302-9.140 [Amended]

21. Amend § 302-9.140, paragraph (a), by removing “§ 302-9.504” and adding “§ 302-9.604” in its place.

§ 302-9.170 [Amended]

22. Amend § 302-9.170, paragraph (d), by removing “§ 302-9.504” and adding “§ 302-9.604” in its place.

Subpart F—[Redesignated as Subpart G]

23. Redesignate subpart F, consisting of §§ 302-9.500 through 302-9.506, as subpart G.

Subpart G—[Amended]

24. Amend the note below the heading to newly-designated subpart G by removing “Note to Subpart F:” and adding “Note to Subpart G:” in its place.

§§ 302-9.500 through 302-9.506 [Redesignated]

25. Redesignate §§ 302-9.500 through 302-9.506 as §§ 302-9.600 through 302-9.606 respectively.

Subpart F—[Added]

26. Amend part 302-9 by adding a new Subpart F, consisting of §§ 302-9.500 through 302-9.502 to read as follows:

Subpart F—Temporary Storage of a POV
Sec.
302-9.500 When am I eligible for temporary storage of a POV?
302-9.501 How many POVs will be eligible for storage and for how long will my agency authorize the storage?
302-9.502 What expenses may my agency authorize for temporary storage of my POV?

Subpart F— Temporary Storage of a POV

§ 302-9.500 When am I eligible for temporary storage of a POV?

You may be eligible for temporary storage of your POV when:

(a) You are assigned a TCS in support of a contingency operation (humanitarian operations, peacekeeping operations, and similar operations) as defined in 10 U.S.C. 1482a(c)(2);

(b) You are eligible for expenses as authorized in part 302-3, subpart E; and

(c) The head of your agency determines it would be more advantageous, cost and other factors considered, to authorize a temporary storage of a POV.

§ 302-9.501 How many POVs will be eligible for storage and for how long will my agency authorize the storage?

You may be authorized to store not more than one POV at any given time during the period of the TCS assignment, subject to this subpart. A POV may be stored for the duration of the TCS.

§ 302-9.502 What expenses may my agency authorize for temporary storage of my POV?

Your agency may provide for storage, without charge, or for the reimbursement of the cost of storage, of one POV that is owned or leased by an employee of that agency (or by a dependent of such an employee) and that is for the personal use of the employee.

§ 302-9.604 [Amended]

27. Amend newly designated § 302-9.604 by removing “§ 302-9.505” and adding “§ 302-9.605” in its place.

[FR Doc. 2011-29565 Filed 11-18-11; 8:45 am]

BILLING CODE 6820-14-P